DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 6, 2023 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Farm Service Agency

Title: Power of Attorney.

OMB Control Number: 0560-0190.

Summary of Collection: The form of FSA-211, Power of Attorney, is used to appoint someone to act on behalf of another as attorney-in-fact. The form gives another person legal authority to act on his or her behalf. The person receiving the power to act on your behalf may enter into binding agreements and may create liability for you. The attorney-in-fact's power and responsibilities depend on the specific powers granted in the form. The form is used only for certain programs and actions offered by the Commodity Credit Corporation (CCC), Farm Service Agency (FSA), Natural Resources Conservation Service (NRCS), the Federal Crop Insurance Corporation (FCIC) the Risk Management Agency.

Grantors use the form of FSA-211A, Power of Attorney Signature Continuation Sheet, when the grantor is an entity, such as a general partnership, joint operation, corporation, limited liability company, or other similar entity which require more than one member's signature to appoint an attorney-in-fact to act on behalf of the entity.

Need and Use of the Information: FSA will collect information to verify an individual's authority to sign and act for another in the event of errors or fraud that requires legal remedies. The information collected on the FSA-211/211A is limited to the grantor's name, signature, and identification number, the grantee's name, address, and the applicable FSA, CCC, FCIC, NRCS, and RMA programs or transactions.

Description of Respondents: Individuals or households.

Number of Respondents: 16,000.

Frequency of Responses: Reporting: Other (once).

Total Burden Hours: 7,750.

Ruth Brown,
Departmental Information Collection Clearance Officer.

[FR Doc. 2023-16842 Filed 8-4-23; 8:45 am]

BILLING CODE 3410-05-P